DEPARTMENT OF COMMERCE

Foreign-Trade Zones Board

[B-15-2016]

Production Activity not Authorized, Foreign-Trade Zone 87—Lake Charles, Louisiana, Sasol Chemicals (USA), LLC, Subzone 87E, (Assembly of Ethylene Distillation/Rectification Plant and Ethane Cracker/Reaction Unit; Production of Polyethylene) Westlake and Sulphur, Louisiana

On March 17, 2016, Sasol Chemicals (USA), LLC (Sasol) submitted a notification of proposed production activity to the Foreign-Trade Zones (FTZ) Board for its sites within Subzone 87E in Westlake and Sulphur, Louisiana.

The notification was processed in accordance with the regulations of the FTZ Board (15 CFR part 400), including notice in the Federal Register inviting public comment (81 FR 18572-18573). Pursuant to Section 400.37, the FTZ Board has determined that further review is warranted and has not authorized the proposed activity. If the applicant wishes to seek authorization for this activity, it will need to submit an application for production authority, pursuant to Section 400.23.

Dated: July 15, 2016.
Andrew McGilvray,
Executive Secretary.

[FR Doc. 2016-17304 Filed 7-20-16; 8:45 am]

BILLING CODE 3510-DS-P